DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Drug Testing Advisory Board (DTAB) will meet on August 19 and 20, 2008.

The meeting is open and will include discussion of DTAB's “Exploring the Science and Experience of Testing for Prescription Drugs in the Non-Regulated Workplace.”

Attendance by the public will be limited to space available. To make arrangements to attend or to request special accommodations for persons with disabilities, please communicate with DTAB's Program Assistant, Ms. Giselle Hersh (see contact information below).

SAMHSA would like to ensure that advisory committee meetings proceed in an orderly fashion, are conducted in a safe and secure environment, that the right of free speech is protected, and that the ability of SAMHSA Advisory Committees to accomplish their objectives is not disrupted. Therefore, the following procedures will be followed by DTAB:

• Attendees may be subject to security screening, such as presenting identification, passing through metal detectors, and inspection of briefcases, packages, etc.

• Any interested person who wishes to be assured of the right to make an oral presentation during the Open Public Hearing portion of the DTAB meeting must register with Ms. Hersh before the meeting. Those who have not registered before the meeting will only be invited to speak at the discretion of the Chair and should submit their request to the Designated Federal Official on the day of the meeting.

• Open Public Hearing participants who are designated to speak may be questioned only by the Chair or other DTAB members.

• Audience members may not present comments or questions to the Committee unless recognized by the Chair.

• Attendees at the meeting are asked to maintain order and not display behavior that is disruptive to the meeting (i.e., shouting from the audience, loud outbursts).

• We ask that attendees not approach the DTAB table area during the meeting without permission from the Chair or the Designated Federal Official.

• The DTAB Chair or Designated Federal Official will note on the record any disruptive behavior and will ask the person to cease the behavior or else leave the meeting room.

Substantive program information, a summary of the meeting, and a roster of committee members may be obtained as soon as possible after the meeting, either by accessing the SAMHSA Committee Web site, https://www.nac.samhsa.gov/DTAB/index.aspx, or by contacting Ms. Hersh. The transcript of the meeting will also be available on the SAMHSA Committee's Web site within three weeks after the meeting.

Committee Name: Substance Abuse and Mental Health Services Administration, Drug Testing Advisory Board.

Date/Time/Type: August 19-20, 2008, from 8:30 a.m. to 5 p.m.: Open.

Place: 1 Choke Cherry Road, Sugarloaf Conference Room, Rockville, Maryland 20857.

Contact: Ms. Giselle Hersh, Program Assistant, SAMHSA Drug Testing Advisory Board, 1 Choke Cherry Road, Room 2-1042, Rockville, Maryland 20857, Telephone: 240-276-2605, Fax: 240-276-2610, E-mail: Giselle.Hersh@samhsa.hhs.gov.

Toian Vaughn,
Committee Management Officer, Substance Abuse and Mental Health Services Administration.

[FR Doc. E8-17564 Filed 7-30-08; 8:45 am]

BILLING CODE 4162-20-P